DEPARTMENT OF AGRICULTURE

Food and Nutrition Service

Agency Information Collection Activities: Employment and Training Opportunities in the Supplemental Nutrition Assistance Program

AGENCY: Food and Nutrition Service (FNS), USDA.

ACTION: Notice.

SUMMARY: In accordance with the Paperwork Reduction Act of 1995, this notice invites the general public and other public agencies to comment on this proposed information collection. This collection is a revision of a currently approved collection. This information collection includes the requirement for case management services to individuals participating in Supplemental Nutrition Assistance Program (SNAP) Employment and Training (E&T) program as mandated by the Food and Nutrition Act of 2008 (FNA), as amended. The current information collection also includes four other provisions of the FNA and SNAP regulations that are being merged into other existing information collections. Those provisions include State agencies notifying individuals who have been determined ill-suited by an E&T provider for a particular E&T component; State agency notification to inform Able-bodied Adults without Dependents (ABAWD) about work requirements and the ABAWD time limit through a written notice and oral explanation; the requirement that State agencies inform SNAP households not otherwise exempt from the general work requirements in writing of available employment and training services at the time of recertification if these individuals are members of households that contain at least one adult, with no elderly or disabled individuals, and with no earned income at the their last recertification or required report; and the addition of four data elements to the FNS-583 reports (SNAP Employment and Training Program Activity Report).

DATES: Written comments must be received on or before December 19, 2023.

ADDRESSES: Comments may be sent to: Marcie Foster, Food and Nutrition Service, U.S. Department of Agriculture, 1320 Braddock Place, 5th Floor, Alexandria, VA 22314. Comments may also be submitted via email to rachel.gragg@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Rachel Gragg at 703-605-3213.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Employment and Training Opportunities in the Supplemental Nutrition Assistance Program.

Form Number: N/A.

OMB Control Number: 0584-0653.

Expiration Date: 03/31/2024.

Type of Request: Revision of a currently approved collection.

Abstract: Section 6(d)(4)(B)(i) of the Food and Nutrition Act of 2008 (FNA), as amended, and Supplemental Nutrition Assistance Program (SNAP) regulations at 7 CFR 273.7(e)(1) requires State agencies to provide case management services, such as comprehensive intake assessments, individualized service plans, progress monitoring or coordination with service providers to all SNAP Employment and Training (E&T) participants. The purpose of the case management services is to guide E&T participants towards appropriate E&T components and activities based on the participant's needs and interests, support the participant in the E&T program and to provide activities and resources that will assist the participant toward self-sufficiency. State agencies may adopt different modes for the delivery of case management services, such as virtual, over the telephone, in-person or hybrid approach. This information will be used to better administer the SNAP E&T Program and provide improved customer service to SNAP E&T participants. If the Department does not require State agencies to conduct case management services, the Department will be out of compliance with Federal law.

Discussed in the Employment and Training Opportunities in the Supplemental Nutrition Assistance Program Final rule was the intent to merge certain reporting burdens to OMB Controls #0584-0064 and #0584-0594.

Merging OMB-Approved Burden from OMB Control Number 0584-0653 to OMB Control Number 0584-0064: Three provisions included in the current information collection for the Employment and Training Opportunities in SNAP are being merged into the OMB-Approved burden for the SNAP Forms: Applications, Periodic Reporting, Notices (OMB Control Number 0584-0064, expiration date: 02/28/24. Those provisions include the requirement under 7 CFR 273.7(c)(18)(i) for notifying E&T participants of provider determinations; requirement under 7 CFR 273.24(b)(8) regarding informing Able-bodied Adults without Dependents (ABAWDs) of the ABAWD work requirements and time limits; and the requirement under 7 CFR 273.7(b)(5) for informing certain households of employment and training services.

Merging OMB-Approved Burden for the FNS-583 from OMB Control Number 0584-0653 to OMB Control Number 0584-0594: The requirement under 7 CFR 273.7(c)(11) regarding four additional data elements in the FNS-583 reports (SNAP Employment and Training Program Activity Report) was merged into the OMB-Approved burden for the Food Program and Reporting System (OMB Control Number 0584-0594, expiration date 07/31/23 currently under review).

The following is the estimated burden for State agencies to provide, record and maintain records in State E&T management information systems (MIS) on the provision of case management services and individuals receiving case management services.

FNS is seeking an overall burden of 375,053 respondents (53 States + 375,000 Individuals/Households); 5,325,568.45 total annual responses (2,662,508.00 State reporting + 1,331,254 Individuals/Households reporting + 1,331,254 States recordkeeping; and 1,424,613.04 total annual burden hours (711,555.26 States reporting + 533,431,88 Individuals/Households reporting + 186,375.56) see breakout in the table below.

Reporting

Affected Public: State, Local and Tribal Government. Respondent groups identified include State agencies administering the SNAP E&T program in 50 States, the District of Columbia, Guam, and the U.S. Virgin Islands.

Estimated Number of Respondents: The total estimated number of respondents annually for the reporting burden of case management services is 53 State agencies representing the agencies responsible for SNAP E&T administration in 50 States, the District of Columbia, Guam and the U.S. Virgin Islands.

Estimated Number of Responses per Respondent: The total estimated number of responses per respondent for the provision and documenting of case management services is 50,236.

Based upon an average participation in E&T between FY 2016 to FY 2021, it is estimated that an average of 375,000 individuals participates in SNAP E&T annually divided by 53 State agencies equals an annual average of 7,075.47 E&T participants per State agency.

Individuals participate in E&T programs an average of 3.55 months.

Estimated number of provisions of case management services per each State agency: 7,075.47 E&T participants × 3.55 months = 25,117.92.

Estimated number of documentations of case management services per each State agency: 7,075.47 E&T participants × 3.55 months =25,117.92.

Estimated Total Annual Responses: The total estimated annual responses for the provision and documenting of case management services is 2,662,508.

Estimated number of provisions of case management services per each State agency: 7,075.47 E&T participants × 3.55 months = 25,117.92.

Total annual responses of provisions of case management services: 25,117.92 × 53 State agencies = 1,331,249.76.

Estimated number for documentations of case management services per each State agency: 7,075.47 E&T participants × 3.55 months = 25,117.92.

Total annual responses for documentations of case management services: 25,117.92 × 53 State agencies = 1,331,249.76.

Estimated Time per Response: The estimated hours per response is .27.

Estimated time for initial case management meeting is .5 hours and each subsequent meeting is .25 hours, for an average of 0.3007 hours per meeting ([0.5 hours + .25 hours + .25 hours + 0.0676 hours]/3.55 months = 0.3007).

Estimated time for case manager to prepare for each case management session is an average of 0.1538 hours per meeting.

Total time for provision of case management is .4545 (0.3007 + 0.1538 = 0.4545).

Estimated Total Annual Burden on Respondents: The estimated total annual burden on State agencies to provide and document case management services is 711,555.26.

Affected Public: Individual/Household. Respondent group includes SNAP participants referred to SNAP E&T receiving case management services.

Estimated Number of Respondents: The estimated number of respondents is 375,000 individuals participating in SNAP E&T and receive case management services. Based upon an average participation in E&T between FY 2016 to FY 2021.

Estimated Number of Responses per Respondent: The estimated number of responses per respondent is 3.55001067. This represents the average number of months that E&T participants participate and receive case management services.

Estimated Total Annual Responses: The estimated total annual responses is 1,331,254.

375,000 E&T participants receiving case management services for 3.55 months (375,000 * 3.55 = 1,331,254.)

Estimated Time per Response: The estimated time per response is .4007 hours.

Average meeting time for each case management meeting is .3007 hours.

It is assumed that 90 percent of the case management meetings will be held telephonically or virtually with only 10 percent held in-person and consequently requiring the participant to travel to an E&T site adding one hour to the average meeting time. For this reason, the average meeting time per participant is 0.4007 hours per meeting ([0.3007 *0.90] + [1.3007*.10] = 0.4007).

Estimated Total Annual Burden on Respondents: The estimated total annual burden on respondents is 533,431.88 hours.

See the table below for estimated total annual reporting burden for each type of respondent.

Total Annual Reporting Burden—SNAP Employment and Training Provision and Recording of Case Management Services
Respondent category (affected public) | Type of respondents | Burden activity | CFR citation | Estimated number of respondents | Responses per respondent (col. G/E) | Total annual responses (col. E × F) | Estimated hours per response (col. I/G) | Estimated total burden hours (col. G × H)
A | B | C | D | E | F | G | H | I
REPORTING
State Government | State Agency E&T Case Managers | Provide Case Management Services | 7 CFR 273.7(e)(1) | 53.00 | 25,118.00 | 1,331,254.00 | 0.45 | 605,054.94
|  | Document Case Management Services | 7 CFR 273.7(e)(1) | 53.00 | 25,118.00 | 1,331,254.00 | 0.08 | 106,500.32
| State Agency Eligibility Worker | Notify E&T Participants of Provider Determination | 7 CFR 273.7(c)(18)(i) | 0.00 | 0.00 | 0.00 | 0.00 | 0.00
|  | Inform ABAWDs of the ABAWD work requirement | 7 CFR 273.7(c)(1)(ii)-(iii); and 273.24(b)(8) | 0.00 | 0.00 | 0.00 | 0.00 | 0.00
| State Agency Administrative Staff | Develop list of Employment and Training Services | 7 CFR 273.14(b)(5) | 0.00 | 0.00 | 0.00 | 0.00 | 0.00
|  | Develop ABAWD written statement of work requirements | 7 CFR 273.7(c)(1)(iii) | 0.00 | 0.00 | 0.00 | 0.00 | 0.00
|  | Reporting FNS-583 data elements (OMB Control #0584-0594) | 7 CFR 273.7(c)(11) | 0.00 | 0.00 | 0.00 | 0.00 | 0.00
|  | Reporting additional FNS-583 data elements | 7 CFR 273.7(c)(11) | 0.00 | 0.00 | 0.00 | 0.00 | 0.00
State Government Sub-Total | 53.00 | 50,236.00 | 2,662,508.00 | 0.27 | 711,555.26
Individuals/Household | E&T Participants | Participating in Case Management Services | 7 CFR 273.7(e)(1) | 375,000.00 | 3.55 | 1,331,254.00 | 0.40 | 533,433.48
|  | Review Information on Provider Determination | 7 CFR 273.7(c)(18)(i) | 0.00 | 0.00 | 0.00 | 0.00 | 0.00
|  | Read ABAWD written statement of work requirements | 7 CFR 273.7(c)(1)(iii) and 273.24(b)(8) | 0.00 | 0.00 | 0.00 | 0.00 | 0.00
|  | Read list of Employment and Training Services | 7 CFR 273.14(b)(5) | 0.00 | 0.00 | 0.00 | 0.00 | 0.00
Individuals/Household Sub-Total | 375,000.00 | 3.55 | 1,331,254.00 | 0.40 | 533,433.48
Grand Total Reporting Burden | 375,053.00 | 10.65 | 3,993,762.00 | 0.31 | 1,244,988.74

Recordkeeping

Affected Public: State, Local and Tribal Government. Respondent groups identified include State agencies administering the SNAP E&T program in 50 States, the District of Columbia, Guam, and the U.S. Virgin Islands.

Estimated Number of Respondents: The total estimated number of respondents annually for the recordkeeping burden for maintaining records of case management services is 53 State agencies, including the agencies responsible for SNAP E&T administration in 50 States, the District of Columbia, Guam and the U.S. Virgin Islands.

Estimated Number of Responses per Respondent: The total estimated number of responses per respondent for the provision and documenting of case management services is 25,118.

Estimated Total Annual Responses: The total estimated annual responses for the provision and documenting of case management services is 1,331,254.

Estimated Time per Response: The estimated time per response is .14 hours.

Estimated Total Annual Burden on Respondents: The estimated total annual burden on respondents is 186,375.56 hours.

See table below for estimated total burden for each type of respondent.

Total Annual Recordkeeping Burden—SNAP Employment and Training Maintaining Records of Case Management Services
Respondent category (affected public) | Type of respondents | Burden activity | CFR citation | Estimated number of respondents | Responses per respondent (col. G/E) | Total annual responses (col. E × F) | Estimated hours per response (col. I/G) | Estimated total burden hours (col. G × H)
A | B | C | D | E | F | G | H | I
RECORDKEEPING
State Government | State Agency | Maintain Case Management Records | 273.7(e)(1) | 53.00 | 25,118.00 | 1,331,254.00 | 0.14 | 186,375.56
Grand Total Recordkeeping Burden | 53.00 | 25,118.00 | 1,331,254.00 | 0.14 | 186,375.56

Tameka Owens,
Assistant Administrator, Food and Nutrition Service.

[FR Doc. 2023-23238 Filed 10-19-23; 8:45 am]

BILLING CODE 3410-30-P